DEPARTMENT OF TRANSPORTATION

Federal Railroad Administration

[Docket No. FRA-2000-7257, Notice No. 89]

Railroad Safety Advisory Committee; Notice of Meeting

AGENCY: Federal Railroad Administration (FRA), Department of Transportation (DOT).

ACTION: Notice of public meeting.

SUMMARY: FRA announces the sixtieth meeting of the Railroad Safety Advisory Committee (RSAC), a Federal Advisory Committee that develops railroad safety regulations through a consensus process.

DATES: The RSAC meeting is scheduled for Thursday, October 1, 2020. The meeting will commence at 9:30 a.m. and will adjourn by 11:30 a.m. (all times Eastern Daylight Time). Requests to attend the meeting must be received by September 24, 2020. Requests for accommodations because of a disability must be received by September 21, 2020. Requests to submit written materials to be reviewed during the meeting must be received no later than September 24, 2020.

ADDRESSES: The RSAC meeting will be held telephonically. Telephonic attendance information will be provided upon registration with either of the individuals listed in the FOR FURTHER INFORMATION CONTACT section. Copies of the meeting minutes, along with general information about the committee, are available on the RSAC internet website at https://rsac.fra.dot.gov/ .

FOR FURTHER INFORMATION CONTACT: Kenton Kilgore, RSAC Designated Federal Officer/RSAC Coordinator, FRA Office of Railroad Safety, (202) 493-6286 or kenton.kilgore@dot.gov; or Larry Woolverton, Executive Officer, FRA Office of Railroad Safety, (202) 493-6212 or larry.woolverton@dot.gov. Any committee-related request should be sent to the persons listed in this section.

SUPPLEMENTARY INFORMATION: Pursuant to Section 10(a)(2) of the Federal Advisory Committee Act (Pub. L. 92-463), FRA is giving notice of a meeting of the RSAC. The RSAC is composed of 40 voting representatives from 29 member organizations, representing various rail industry perspectives. The diversity of the Committee ensures the requisite range of views and expertise necessary to discharge its responsibilities.

Public Participation: The meeting will open to the public and attendance may be limited due to telephonic meeting constraints. To register, please send an email to either of the individuals listed in the FOR FURTHER INFORMATION CONTACT section. The meeting is accessible to individuals with disabilities. The U.S. Department of Transportation and the Federal Railroad Administration are committed to providing equal access to this meeting for all participants. If you need alternative formats or services because of a disability, please contact either of the individuals listed in the FOR FURTHER INFORMATION CONTACT section by the deadline listed in the DATES section. Any member of the public may submit a written statement to the committee at any time. If a member of the public wants the submitted written materials to be considered by the committee during the meeting, the submission must be received before the deadline listed in the DATES section.

Agenda Summary: The RSAC meeting topics will include updates on recent activity by RSAC Working Groups for: Passenger Safety, Track Standards, Tourist and Historic Railroads, and Part 225 Accident Reporting. The detailed agenda will be posted on the RSAC internet website at least one week in advance of the meeting.

Issued in Washington, DC.
Quintin Kendall,
Deputy Administrator.

[FR Doc. 2020-19737 Filed 9-4-20; 8:45 am]

BILLING CODE 4910-06-P